ENVIRONMENTAL PROTECTION AGENCY

[EPA-HQ-OAR-2007-0904; FRL-8518-7]

Agency Information Collection Activities; Submission to OMB for Review and Approval; Comment Request; Emissions Certification and Compliance Requirements for Marine Spark-Ignition Engines (Renewal); EPA ICR No. 1722.05, OMB Control No. 2060-0321

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 22, 2008.

ADDRESSES: Submit your comments, referencing Docket ID No. EPA-HQ-OAR-2007-0904, to (1) EPA online using http://www.regulations.gov (our preferred method), by e-mail to a-and-r-Docket@epa.gov, or by mail to: EPA Docket Center, Environmental Protection Agency, Air Docket, Environmental Protection Agency, Mailcode: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Nydia Yanira Reyes-Morales, Environmental Protection Agency, 1200 Pennsylvania Avenue NW., Mail Code 6403J, Washington, DC 20460; telephone number: 202-343-9264; fax number: 202-343-2804; e-mail address: reyes-morales.nydia@epa.gov.

SUPPLEMENTARY INFORMATION: EPA has submitted the following ICR to OMB for review and approval according to the procedures prescribed in 5 CFR 1320.12. On September 26, 2007 (72 FR 54654), EPA sought comments on this ICR pursuant to 5 CFR 1320.8(d). EPA received no comments. Any additional comments on this ICR should be submitted to EPA and OMB within 30 days of this notice.

EPA has established a public docket for this ICR under Docket ID No. EPA-HQ-OAR-2007-0904, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Emissions Certification and Compliance Requirements for Marine Spark-ignition Engines (Renewal).

ICR numbers: EPA ICR No. 1722.05, OMB Control No. 2060-0321.

ICR Status: This ICR is scheduled to expire on January 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR Part 9.

Abstract: Under Title II of the Clean Air Act (42 U.S.C. 7521 et seq.; CAA), EPA is charged with issuing certificates of conformity for certain spark-ignition (SI) engines used to propel marine vessels that comply with applicable emission standards. Such a certificate must be issued before engines may be legally introduced into commerce. To apply for a certificate of conformity, manufacturers are required to submit descriptions of their planned production line, including descriptions of the emission control system, and engine emission test data. This information is organized by “engine family.” An engine family is a group of engines expected to have similar emission characteristics. There are also record-keeping requirements. Under the regulations governing marine SI engines, manufacturers must use the Averaging, Banking, and Trading Program (ABT) and must submit information regarding the calculation, actual generation, and usage of emission credits in a certification application, an end-of-the-year report, and final report. These reports are used for certification and enforcement purposes. The Act also mandates EPA to verify that manufacturers have successfully translated their certified prototype engines into mass produced engines, and that these engines comply with emission standards throughout their useful lives. Under the Production-Line Testing (PLT) Program, manufacturers are required to test a sample of engines as they leave the assembly line. This self-audit program increases efficiency and reduces the cost of correcting misbuilds and other errors made in the assembly line. Under the In-use Testing Program (In-use), manufacturers are required to test engines after a number of years of use to verify that they comply with emission standards throughout their useful lives.

Burden Statement: The annual public reporting and recordkeeping burden for this collection of information is estimated to average 154 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by these actions are manufacturers of marine spark-ignition engines.

Estimated Number of Respondents: 12.

Frequency of Response: Annual, quarterly, and on occasion.

Estimated Total Annual Hour Burden: 26,546.

Estimated Total Annual Cost: $1,608,844, includes $219,223 annualized capital or O&M costs.

Changes in the Estimates: There is a decrease of 13,747 hours in the total estimated burden currently identified in the OMB Inventory of Approved ICR Burdens. This decrease is due to an adjustment in the total estimated number of responses. Under the previous ICR, manufacturers could request a waiver from most compliance requirements (PLT, In-use, etc.) for engine families with technology that was already in existence as of 1997 if they agreed to completely phase these families out by 2005. Since the phase out date already passed, manufacturers are no longer producing those engine families.

Dated: January 16, 2008.
Sara Hisel-McCoy,
Director, Collection Strategies Division.

[FR Doc. E8-1096 Filed 1-22-08; 8:45 am]

BILLING CODE 6560-50-P